DEPARTMENT OF HEALTH AND HUMAN SERVICES

National Institutes of Health

Center for Scientific Review; Amended Notice of Meeting

Notice is hereby given of a change in the meeting of the Center for Scientific Review Special Emphasis Panel, December 15, 2009, 9:30 a.m. to December 15, 2009, 6 p.m., National Institutes of Health, 6701 Rockledge Drive, Bethesda, MD 20892 which was published in the Federal Register on December 8, 2009, 74 FR 64702-44703.

The meeting will be held February 24, 2010. The meeting time and location remain the same. The meeting title has been changed to “Member Conflict: Immune Mechanisms.” The meeting is closed to the public.

Dated: December 9, 2009.
Jennifer Spaeth,
Director, Office of Federal Advisory Committee Policy.

[FR Doc. E9-29816 Filed 12-14-09; 8:45 am]

BILLING CODE 4140-01-P